ENVIRONMENTAL PROTECTION AGENCY

[OAR-2005-0172; FRL-7998-3]

Draft Staff Paper for Ozone

AGENCY: Environmental Protection Agency (EPA).

ACTION: Notice of a draft for public review and comment.

SUMMARY: On or about November 14, 2005, the Office of Air Quality Planning and Standards (OAQPS) of EPA will make available for public review and comment a draft document, Review of the National Ambient Air Quality Standards for Ozone: Policy Assessment of Scientific and Technical Information (Draft Staff Paper). The purpose of the Staff Paper is to evaluate the policy implications of the key scientific and technical information contained in a related EPA document, Air Quality Criteria for Ozone and Related Photochemical Oxidants, required under sections 108 and 109 of the Clean Air Act (CAA) for use in the periodic review of the national ambient air quality standards (NAAQS) for ozone. The OAQPS also will make available for public review and comment related draft technical support documents, Ozone Population Exposure Analysis for Selected Urban Areas (draft Exposure Analysis) and Ozone Health Risk Assessment for Selected Urban Areas (draft Risk Assessment).

DATES: Comments on the draft Staff Paper, draft Exposure Analysis, and draft Risk Assessment should be submitted on or before December 30, 2005.

ADDRESSEES: Submit your comments, identified by Docket ID No. OAR-2005-0172, by one of the following methods:

• Agency Web site: EDOCKET, EPA's electronic public docket and comment system, is EPA's preferred method for receiving comments. Follow the on-line instructions for submitting comments.

• E-mail: Comments may be sent by electronic mail (e-mail) to a-and-r-Docket@epa.gov, Attention Docket ID No. OAR-2005-0172.

• Fax: Fax your comments to: 202-566-1741, Attention Docket ID. No. OAR-2005-0172.

• Mail: Send your comments to: Air and Radiation Docket Center, Environmental Protection Agency, Mail code: 6102T, 1200 Pennsylvania Ave., NW., Washington, DC 20460, Attention Docket ID No. OAR-2005-0172.

• Hand Delivery or Courier: Deliver your comments to: EPA Docket Center, 1301 Constitution Ave., NW., Room B102, Washington, DC 20004.

Instructions: Direct your comments to Docket ID No. OAR-2005-0172. The EPA's policy is that all comments received will be included in the public docket without change and may be made available online at http://www.epa.gov/edocket, including any personal information provided, unless the comment includes information claimed to be Confidential Business Information (CBI) or other information whose disclosure is restricted by statute. Do not submit information that you consider to be CBI or otherwise protected through EDOCKET, regulations.gov, or e-mail. The EPA EDOCKET and the federal regulations.gov Web sites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit EDOCKET on-line or see the Federal Register of May 31, 2002 (67 FR 38102).

Docket: All documents in the docket are listed in the EDOCKET index at the Web address provided under “Instructions” above. Although listed in the index, some information is not publicly available, i.e., CBI or other information whose disclosure is restricted by statute. Certain other material, such as copyrighted material, is not placed on the Internet and will be publicly available only in hard copy form. Publicly available docket materials are available either electronically in EDOCKET or in hard copy at the Air Docket in the EPA Docket Center, (EPA/DC) EPA West, Room B102, 1301 Constitution Ave., NW., Washington, DC. This Docket Facility is open from 8:30 a.m. to 4:30 p.m., Monday through Friday, excluding legal holidays. The Docket telephone number is (202) 566-1744; fax (202) 566-1741.

Availability of Related Information: Documents referred to in this notice are available from the following sources:

• Public Docket.

The EPA has established an official public docket for this action under Docket ID No. OAR-2005-0172. The official public docket consists of the documents specifically referenced in this action, any public comments received, and other information related to the ozone NAAQS review. Although a part of the official docket, the public docket does not include CBI or other information whose disclosure is restricted by statute. The official public docket is the collection of materials that is available for public viewing at the Air Docket in the EPA Docket Center at the address listed above. A reasonable fee may be charged for copying.

• Electronic Access.

An electronic version of the public docket is available through EPA's electronic public docket and comment system, EPA Dockets. You may use EPA Dockets at http://www.epa.gov/edocket/ to access the documents specifically referenced in this action. These documents are also available at http://www.epa.gov/ttn/naaqs/standards/ozone/s_ozone_index.html; the draft Staff Paper is available under “Staff Papers” the draft Exposure Analysis and Risk Assessment technical support documents are available under “Technical Documents” and the draft Health Assessment Plan is available under “Planning Documents.”

FOR FURTHER INFORMATION CONTACT: Dr. David McKee, Office of Air Quality Planning and Standards (mail code C539-01), U.S. Environmental Protection Agency, Research Triangle Park, NC 27711; e-mail: mckee.dave@epa.gov; telephone: (919) 541-5288; fax: (919) 541-0237.

SUPPLEMENTARY INFORMATION: Section 108(a) of the CAA directs the Administrator to identify certain pollutants which “may reasonably be anticipated to endanger public health and welfare” and to issue air quality criteria for them. These air quality criteria are to “accurately reflect the latest scientific knowledge useful in indicating the kind and extent of all identifiable effects on public health or welfare which may be expected from the presence of [a] pollutant in the ambient air * * * .” Under section 109 of the CAA, EPA is then to establish NAAQS for each pollutant for which EPA has issued criteria. Section 109(d) of the CAA subsequently requires periodic review and, if appropriate, revision of existing air quality criteria to reflect advances in scientific knowledge on the effects of the pollutant on public health and welfare. Also, EPA is to revise the NAAQS, if appropriate, based on the revised criteria.

Ozone is one of six “criteria” pollutants for which EPA has established air quality criteria and NAAQS. Presently, EPA is reviewing the criteria and NAAQS for ozone. This review includes preparation of two key documents, the Air Quality Criteria for Ozone and Related Photochemical Oxidants (“Criteria Document”) and a related “Staff Paper.” The EPA completed its second external review draft Criteria Document for Ozone and Related Photochemical Oxidants in August 2005 (70 FR 51810, August 31, 2005).

The purpose of the draft Staff Paper is to evaluate the policy implications of the key scientific and technical information contained in the second external review draft Air Quality Criteria Document and identify critical elements that EPA staff believe should be considered in reviewing the NAAQS. The Staff Paper is intended to “bridge the gap” between the scientific review contained in the Air Quality Criteria Document and the public health and welfare policy judgments required of the Administrator in reviewing the NAAQS.

In January 2005, a first external review draft of the Air Quality Criteria Document was released by EPA for public review and comment and for review by the Clean Air Scientific Advisory Committee (CASAC) of EPA's Science Advisory Board (70 FR 4850, January 31, 2005) at a public meeting held in May 2005. Comments received from review of the first draft document have been considered in preparing the second draft Air Quality Criteria Document. Based on the information contained in the Air Quality Criteria Document, the draft Staff Paper includes assessments and analyses related to: (1) Air quality characterization; (2) integration and evaluation of health information; (3) exposure analysis; (4) health risk assessment; and (5) evaluation of information on vegetation damage and other welfare effects. The draft Staff Paper contains no staff conclusions and recommendations with respect to possible revisions to the current standards but recommends alternative standards for purposes of conducting exposure and risk analyses. A second draft of the Staff Paper will include staff conclusions and recommendations on potential revision or retention of the primary (health-based) and secondary (welfare-based) ozone NAAQS.

The draft Exposure Analysis and Risk Assessment technical support documents describe and present the results from an ozone exposure analysis and health risk assessment in several urban areas. A draft plan, Ozone Health Assessment Plan: Scope and Methods for Exposure Analysis and Risk Assessment, was previously reviewed by CASAC and the public. Comments received on that plan have been considered in developing the draft Exposure Analysis and Risk Assessment technical support documents being released at this time. The Exposure Analysis and Risk Assessment methodologies and results are also discussed in the draft Staff Paper.

The EPA is soliciting early advice and recommendations from the CASAC by means of a consultation on the first draft Staff Paper, first draft Exposure Analysis, and first draft Risk Assessment at an upcoming public meeting of the CASAC. A Federal Register notice will inform the public of the date and location of that meeting. Following the CASAC meeting, EPA will consider comments received from CASAC and the public in preparing a second draft of the Staff Paper and the Exposure Analysis and Risk Assessment technical support documents.

Dated: November 10, 2005.
Jeffrey S. Clark,
Acting Director, Office of Air Quality Planning and Standards.

[FR Doc. 05-22816 Filed 11-16-05; 8:45 am]

BILLING CODE 6560-50-P